DEPARTMENT OF TRANSPORTATION

Federal Highway Administration

[Docket No. FHWA-2022-0030]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by January 3, 2023.

ADDRESSES: You may submit comments identified by DOT Docket ID Number 2022-0030 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Jason Broehm, Office of Safety 202-366-2201 Federal Highway Administration, Department of Transportation, 1200 New Jersey Avenue,SE, Washington, DC 20590. Office hours are from 9 a.m. to 5:30 p.m., Monday through Friday, except Federal holidays.

SUPPLEMENTARY INFORMATION:

Title: Safe Streets and Roads for All Grant Program.

Background: The Department of Transportation's (DOT) Office of the Secretary and the Federal Highway Administration are committed to a comprehensive strategy to address the unacceptable number of traffic deaths and serious injuries occurring on our roads and streets. The Infrastructure Investment and Jobs Act (IIJA), also known as the Bipartisan Infrastructure Law (BIL), Section 24112 aligns with the Department's safety priority through the creation of the Safe Streets and Roads for All Grant Program. This grant program supports local initiatives to prevent deaths and serious injuries on roads and streets and is intended for metropolitan planning organizations, political subdivisions of a State, Federally recognized Tribal governments, and multijurisdictional groups of these entities.

This program includes grant funds to develop a comprehensive safety action plan; to conduct planning, design and development activities for projects and strategies identified in a comprehensive safety action plan; or to carry out projects and strategies identified in a comprehensive safety action plan. To receive applications for grant funds, evaluate the effectiveness of projects that have been awarded grant funds, and monitor project financial conditions and project progress, a collection of information is necessary.

Eligible applicants will request Safe Streets and Roads for All funds in the form of a grant application. Additional information submission will be required of grant recipients during the grant agreement, implementation, and evaluation phases.

Responding to the grant opportunity is on a voluntary-response basis, utilizing an electronic grant platform. The grant application is planned as a one-time information collection. DOT estimates that it will take approximately 30 hours to complete an application for a comprehensive safety action plan grant and approximately 110 hours to complete an application for an implementation grant.

Respondents: Metropolitan planning organizations, political subdivisions of a State, Federally recognized Tribal governments and multijurisdictional groups of these entities.

Frequency: one time per grant application.

During the project management phase, the grantee will complete quarterly progress and monitoring reports to ensure that the project budget and schedule are maintained to the maximum extent possible, that compliance with Federal regulations will be met, and that the project will be completed with the highest degree of quality. Reporting responsibilities include quarterly program performance reports using the Performance Progress Report (SF-PPR) and quarterly financial status using the SF-425 (also known as the Federal Financial Report or SF-FFR).

Respondents: Grant recipients.

Frequency: quarterly throughout the period of performance.

During the project management phase, each grantee that expends $750,000 or more during their own fiscal year in all Federal awards must have a single or program-specific audit conducted for that year in accordance with the provisions of 2 CFR 200.501. (The $750,000 threshold is not limited to Safe Streets and Roads for All funding.) This reporting responsibility is required annually and uses a form, the SF-SAC. It is estimated that this survey will take an average of 100 hours for large auditees and 21 hours for all other auditees to complete, including the time for reviewing instructions, searching existing data sources, gathering and maintaining the data needed, and completing and reviewing the collection of information.

Respondents: Grant recipients.

Frequency: annually during any fiscal year in which $750,000 or more in any Federal funds are expended, throughout the period of performance.

During the project evaluation phase, the reporting requirement is necessary to assess program effectiveness for the Federal government and to comply with Subsection 24112(g). This report provides information regarding how the project is achieving the outcomes that grantees have targeted to help measure the effectiveness of the Safe Streets and Roads for All Grant Program. In addition, under Subsection 24112(h), at the end of the period of performance for a grant under the program each grant recipient is required to submit a report that describes the costs of each eligible project carried out using the grant funds; the outcomes and benefits generated; the lessons learned; and any recommendations relating to future projects or strategies.

Respondents: Grant recipients.

Frequency: one time after the period of performance ends.

Estimated Average Burden per Response:

• Application phase: approximately 30 hours for the comprehensive safety action plan grants and 110 hours for the implementation grants per respondent.

• Grant Agreement phase: approximately 1 hour per respondent (comprehensive safety action plan or implementation grant).

○ For grantees expending $750,000 or more of all Federal funds in a fiscal year only:

Approximately 100 hours for large grantees.

Approximately 21 hours for all other grantees.

• Project Management phase: 8 hours annually per grant.

• Project Evaluation phase: 12 hours annually per implementation grant; 2 hours annually per action plan grant.

Estimated Total Annual Burden Hours—first year: Approximately 41 hours, including grant application, for comprehensive safety action plan grants and approximately 131 hours, including grant application, for implementation grants.

Subsequent years (cumulative): 10 hours for action plan grants (expected period of performance: 2 years); 48 hours for implementation grants (expected period of performance: 5 years); add 100 hours for single audits for large grantees and 21 hours for all other grantees expending $750,000 or more of Federal funds in a single fiscal year.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; 23 U.S.C. 134 and 135; and 23 CFR Chapter 1, subchapter E, part 450.

Dated: October 27, 2022.
Michael Howell,
FHWA Information Collection Officer.

[FR Doc. 2022-23718 Filed 10-31-22; 8:45 am]

BILLING CODE 4910-22-P